DEPARTMENT OF TRANSPORTATION

Federal Aviation Administration

14 CFR Part 39

[Docket No. FAA-2014-0379; Directorate Identifier 2013-SW-067-AD; Amendment 39-17870; AD 2014-12-09]

RIN 2120-AA64

Airworthiness Directives; Agusta S.p.A. (Agusta) Helicopters

AGENCY: Federal Aviation Administration (FAA), Department of Transportation (DOT).

ACTION: Final rule; request for comments.

SUMMARY: We are adopting a new airworthiness directive (AD) for Agusta Model AB412 helicopters. This AD requires inspecting the main transmission lubricating system oil outlet hose (hose) for damage, and, if required, replacing the hose. This AD is prompted by reports of damage found on the hose. These actions are intended to prevent loss of main gear box (MGB) lubrication, which could lead to failure of the MGB and subsequent loss of control of the helicopter.

DATES: This AD becomes effective July 7, 2014.

We must receive comments on this AD by August 18, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the foreign authority's AD, any comments received, and other information. The street address for the Docket Operations Office (telephone 800-647-5527) is in the ADDRESSES section. Comments will be available in the AD docket shortly after receipt.

For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bullettins.You may review the referenced service information at the FAA, Office of the Regional Counsel, Southwest Region, 2601 Meacham Blvd., Room 663, Fort Worth, Texas 76137.

FOR FURTHER INFORMATION CONTACT: Tyrone Millard, Aviation Safety Engineer, Rotorcraft Standards Staff, Rotorcraft Directorate, FAA, 2601 Meacham Blvd., Fort Worth, Texas 76137; telephone (817) 222-5110; email tyrone.d.millard@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA Emergency AD No. 2013-0282-E, dated November 27, 2013, to correct an unsafe condition for Agusta Model AB 212, AB 412, and AB 412EP helicopters. EASA advises of two reports of oil leakage from the main transmission lubricating system oil outlet hose, part number 70-061L275W210A, caused by damage on the hose. EASA further states an investigation has not determined the root cause, but that relative movement between the data plate and the hose assembly may have been a contributing factor. EASA advises that if not corrected, this condition could lead to transmission lubricating system failure and reduced control of the helicopter.

As a result, EASA Emergency AD No. 2013-0282-E requires inspecting the portion of the hose accessible through the cargo hook opening for damage within 10 flight hours, and every 100 flight hours thereafter, and inspecting the portion of the hose accessible through the left side of the pylon for damage within 35 flight hours, and every 25 flight hours thereafter. If there is damage to the hose, EASA Emergency AD No. 2013-0282-E requires replacing the hose with a serviceable hose.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of the same type design.

Related Service Information

We reviewed Agusta Bollettino Tecnico (BT) No. 412-137, dated November 26, 2013. BT No. 412-137 describes procedures for repetitively inspecting the stainless steel hose braiding beneath the hose data plates for damage, fretting, or broken wires.

AD Requirements

This AD requires:

• Within 10 hours time-in-service (TIS), and thereafter at intervals not to exceed 100 hours TIS, inspecting the stainless steel hose braiding for damage, fretting, and broken wires in the area below the transmission oil sump, in the external cargo hook opening.

• Within 35 hours TIS, and thereafter at intervals not to exceed 25 hours TIS, inspecting the stainless steel hose braiding for damage, fretting, and broken wires in the area of the transmission oil sump behind the left side pylon access door.

• If there is any damage, fretting, or any broken wires, replacing the hose before further flight.

Differences Between This AD and the EASA AD

This AD does not apply to Model AB 212 or AB 412EP helicopters, as these models are not type-certificated in the U.S.

Interim Action

We consider this AD to be an interim action. If final action is later identified, we might consider further rulemaking then.

Costs of Compliance

There are no costs of compliance with this AD because there are no helicopters with this type certificate on the U.S. Registry.

FAA's Justification and Determination of the Effective Date

There are no helicopters with this type certificate on the U.S. Registry. Therefore, we believe it is unlikely that we will receive any adverse comments or useful information about this AD from U.S. Operators.

Since an unsafe condition exists that requires the immediate adoption of this AD, we determined that notice and opportunity for public comment before issuing this AD are unnecessary because there are none of these products on the U.S. Registry and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-12-09 Agusta S.p.A. (Agusta): Amendment 39-17870; Docket No. FAA-2014-0379; Directorate Identifier 2013-SW-067-AD.

(a) Applicability

This AD applies to Agusta Model AB412 helicopters with a transmission oil outlet hose (hose) part number 70-061L275W210A installed, certificated in any category.

(b) Unsafe Condition

This AD defines the unsafe condition as hose failure, which could result in loss of main gear box (MGB) lubrication, failure of the MGB, and subsequent loss of control of the helicopter.

(c) Effective Date

This AD becomes effective July 7, 2014.

(d) Compliance

You are responsible for performing each action required by this AD within the specified compliance time unless it has already been accomplished prior to that time.

(e) Required Actions

(1) Within 10 hours time-in-service (TIS), and thereafter at intervals not to exceed 100 hours TIS:

(i) If installed, remove the external cargo suspension hook. In the cargo hook opening, underneath the transmission oil sump, slide the data plate and clear sleeve, if installed, aside and, using a light, inspect the stainless steel hose braiding for damage, fretting, or a broken wire.

(ii) If the stainless steel hose braiding has any damage, fretting, or a broken wire, before further flight, replace the hose.

(2) Within 35 hours TIS, and thereafter at intervals not to exceed 25 hours TIS:

(i) Through the left side pylon door, using a light and a mirror, inspect the stainless steel hose braiding for damage, fretting, or a broken wire.

(ii) If the stainless steel hose braiding has any damage, fretting, or a broken wire, before further flight, replace the hose.

(f) Alternative Methods of Compliance (AMOCs)

(1) The Manager, Rotorcraft Standards Staff, FAA, may approve AMOCs for this AD. Send your proposal to: Tyrone Millard, Aviation Safety Engineer, Rotorcraft Standards Staff, Rotorcraft Directorate, FAA, 2601 Meacham Blvd., Fort Worth, Texas 76137; telephone (817) 222-5110; email tyrone.d.millard@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) AgustaWestland Bollettino Tecnico No. 412-137, dated November 26, 2013, which is not incorporated by reference, contains additional information about the subject of this AD. For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bullettins. You may review a copy of the service information at the FAA, Office of the Regional Counsel, Southwest Region, 2601 Meacham Blvd., Room 663, Fort Worth Texas 76137.

(2) The subject of this AD is addressed in European Aviation Safety Agency (EASA) Emergency AD No. 2013-0282-E, dated November 27, 2013. You may view the EASA AD on the internet at http://www.regulations.gov in Docket No. FAA-2014-0379.

(h) Subject

Joint Aircraft Service Component (JASC) Code: 6320: Main Rotor Gearbox.

Issued in Fort Worth, Texas, on June 6, 2014.
Lance T. Gant,
Acting Directorate Manager, Rotorcraft Directorate, Aircraft Certification Service.

[FR Doc. 2014-13836 Filed 6-18-14; 8:45 am]

BILLING CODE 4910-13-P